DEPARTMENT OF COMMERCE

National Oceanic and Atmospheric Administration

RIN 0648-XH073

Caribbean Fishery Management Council; Public Meeting

AGENCY: National Marine Fisheries Service (NMFS), National Oceanic and Atmospheric Administration (NOAA), Commerce.

ACTION: Notice of a public meeting.

SUMMARY: The Caribbean Fishery Management Council's (Council) Outreach and Education Advisory Panel (OEAP) will hold a 2-day meeting in August to discuss the items contained in the agenda in the SUPPLEMENTARY INFORMATION.

DATES: The meetings will be held on August 7, 2019, from 10 a.m. to 4 p.m. and on August 8, 2019, from 10 a.m. to 4 p.m.

ADDRESSES: The meetings will be held at the CFMC Headquarters, 270 Muñoz Rivera Avenue, Suite 401, San Juan, Puerto Rico 00918.

FOR FURTHER INFORMATION CONTACT: Caribbean Fishery Management Council, 270 Muñoz Rivera Avenue, Suite 401, San Juan, Puerto Rico 00918-1903, telephone: (787) 766-5926.

SUPPLEMENTARY INFORMATION:

August 07, 2019, 10 a.m.-4 p.m.

○ Call to Order

○ Adoption of Agenda

○ OEAP Chairperson's Report

• Status of:

○ OEAP members meeting attendance

○ CFMC Report 165th Regular Meeting

○ USVI activities

○ Island-Based Fisheries Management Plans (IBFMPs)

○ Fishery Ecosystem Plan (FEP)

Stakeholders engagement

Ecosystem Based Fishery Management (EBFM) Work Group

—Outreach & Education initiatives for fishers and consumers

○ Responsible Seafood Consumption Campaign

Posters and placemats

August 08, 2019, 10 a.m.-4 p.m.

○ 2020 Calendar

○ Marine Fisheries Ecosystem Book

○ CFMC Facebook and YouTube communications with Stakeholders

○ PEPCO

• Other Business

The order of business may be adjusted as necessary to accommodate the completion of agenda items. The meeting will begin on August 7, 2019 at 10 a.m. and will end on August 8, 2019 at 4 p.m. Other than the start time, interested parties should be aware that discussions may start earlier or later than indicated. In addition, the meeting may be extended from, or completed prior to the date established in this notice.

Special Accommodations

These meetings are physically accessible to people with disabilities. For more information or request for sign language interpretation and other auxiliary aids, please contact Mr. Miguel A. Rolón, Executive Director, Caribbean Fishery Management Council, 270 Muñoz Rivera Avenue, Suite 401, San Juan, Puerto Rico, 00918-1903, telephone: (787) 766-5926, at least 5 days prior to the meeting date.

Dated: June 25, 2019.
Tracey L. Thompson,
Acting Deputy Director, Office of Sustainable Fisheries, National Marine Fisheries Service.

[FR Doc. 2019-13895 Filed 6-27-19; 8:45 am]

BILLING CODE 3510-22-P